DEPARTMENT OF THE INTERIOR

National Park Service

[NPS-WASO-NAGPRA-NPS0037056; PPWOCRADN0-PCU00RP14.R50000]

Notice of Inventory Completion: U.S. Department of the Interior, Bureau of Reclamation, Missouri Basin Region, Nebraska-Kansas Area Office, McCook, NE

AGENCY: Bureau of Reclamation, Interior.

ACTION: Notice.

SUMMARY: In accordance with the Native American Graves Protection and Repatriation Act (NAGPRA), the U.S. Department of the Interior, Bureau of Reclamation, Nebraska-Kansas Area Office (Reclamation Nebraska-Kansas Area Office) has completed an inventory of human remains and associated funerary objects and has determined that there is a cultural affiliation between the human remains and associated funerary objects and Indian Tribes or Native Hawaiian organizations in this notice. The human remains and associated funerary objects were removed from Jewell, Mitchell, Norton, and Phillips Counties, KS, and from Frontier County, NE.

DATES: Repatriation of the human remains and associated funerary objects in this notice may occur on or after January 12, 2024.

ADDRESSES: Catherine Griffin, Bureau of Reclamation, Nebraska-Kansas Area Office, 1706 West 3rd Street, McCook, NE 69001, telephone (308) 345-8324, email cgriffin@usbr.gov.

SUPPLEMENTARY INFORMATION: This notice is published as part of the National Park Service's administrative responsibilities under NAGPRA. The determinations in this notice are the sole responsibility of the Reclamation Nebraska-Kansas Area Office. The National Park Service is not responsible for the determinations in this notice. Additional information on the determinations in this notice, including the results of consultation, can be found in the inventory or related records held by the Reclamation Nebraska-Kansas Area Office.

Description

14JW-HOFTS

Human remains representing, at minimum, one individual were removed from Jewell County, KS. Sometime prior to 1982, a private citizen reported that human remains were exposed on the south shore of Lovewell Reservoir. Native American archeological sites with fragmentary human remains are known to erode from the south shore of Lovewell Reservoir. These sites date to either the Plains Woodland period (A.D. 1-1000) or Plains Village period (A.D. 1000-1500). The Kansas Historical Society (KHS) assigned Unmarked Burial Sites (UBS) case number UBS 1991-52 to the human remains. The box was labelled “Hofts Collection.” In 1995, Reclamation transferred the human remains to the Wichita State University's Biological Anthropology Laboratory (WSU-BAL) for inventory and secure storage. The fragmentary human remains belong to a young adult, probably female, 20 to 30 years of age. No associated funerary objects are present.

14JW312

Human remains representing, at minimum, 11 individuals were removed from Jewell County, KS. In 1982, the KHS, working under a cooperative agreement with Reclamation, excavated fragmentary and poorly preserved human remains that were eroding into Lovewell Reservoir at site 14JW312, aka the Begin Ossuary. KHS excavated an estimated 10 sets of commingled human remains from a burial pit, and one set of human remains from an extended primary burial. KHS assigned case number UBS 1989-29 to the human remains. In 1995, Reclamation transferred the human remains and associated funerary objects to WSU-BAL for inventory and secure storage. The fragmentary human remains collected from 14JW312 belong to an infant, a child, an adolescent, and male and female adults. The four associated funerary objects are one shell disc bead, one lot consisting of pottery sherds (from at least two different vessels), one lot consisting of chipped stone debitage, and one lot consisting of unmodified deer bones. The associated funerary objects date to the Upper Republican phase of the Central Plains Tradition (A.D. 950-1400).

14ML1

Human remains representing, at minimum, one individual were removed from Mitchell County, KS. In 1952, the Smithsonian Institution's River Basin Surveys (SI-RBS) recommended that a salvage excavation be conducted at the late prehistoric village site 14ML1, aka the Glen Elder Site, prior to its destruction by construction of Glen Elder Dam. In 1963, the University of Nebraska, Lincoln (UNL) excavated site 14ML1 under a cooperative agreement with the National Park Service (NPS). The 1963 excavation recovered two human bones from a filled pit. In 2001, graduate students working on faunal and artifact curation found additional human remains within the 14ML1 archeological collection. The archeological materials from 14ML1 date to the Central Plains Tradition (A.D. 1000-1500). In 2001, Reclamation transferred the human remains to WSU-BAL for inventory and secure storage. The fragmentary human remains collected from 14ML1 belong to a mature adult of unknown sex. No associated funerary objects are present.

14ML5

Human remains representing, at minimum, one individual were removed from Mitchell County, KS. In 1952, the SI-RBS recommended that a salvage excavation be conducted at the late prehistoric village site 14ML5 prior to its inundation by Glen Elder Dam and Waconda Lake. From 1964 to 1965, the UNL excavated site 14ML5 under a cooperative agreement with the NPS. UNL excavated two earthen lodge floors and an extramural work area. Human remains were excavated from an unknown area within the site. The archeological materials from site 14ML5 are associated with the Solomon River phase of the Central Plains Tradition (A.D. 1000-1300). In 1992, Reclamation transferred the human remains to WSU-BAL for inventory and secure storage. The human remains collected from 14ML5 belong to an infant or a young child less than seven years of age. No associated funerary objects are present.

14ML11

Human remains representing, at minimum, two individuals were removed from Mitchell County, KS. In 1952, the SI-RBS recommended that a salvage excavation be conducted at the late prehistoric village site 14ML11 prior to its being inundated by Glen Elder Dam and Waconda Lake. From 1965 to 1967, the UNL excavated site 14ML11 under a cooperative agreement with the NPS. UNL excavated an earthen lodge floor, where they found one nearly complete infant skeleton and one set of adult human remains. The archeological materials from the site are associated with the Solomon River phase of the Central Plains Tradition (A.D. 1000-1300). In 1998, Reclamation transferred the human remains to WSU-BAL for inventory and secure storage. The human remains belong to an infant or a young child less than four years in age, and a mature adult of indeterminate sex. No associated funerary objects are present.

14ML15

Human remains representing, at minimum, one individual were removed from Mitchell County, KS. In 1952, the SI-RBS recommended that a salvage excavation be conducted at the late prehistoric village site 14ML15 prior to its being inundated by Glen Elder Dam and Waconda Lake. In 1964 and 1965, the UNL excavated site 14ML15 under a cooperative agreement with the NPS. Human remains were present in one of four earthen lodge floors excavated by the UNL. The archeological materials from the site are associated with the Central Plains Tradition (A.D. 1000-1500). In 1992, Reclamation transferred the human remains to WSU-BAL for inventory and secure storage. The human remains collected from 14ML15 belong to a young adult female, 20 to 35 years of age. No associated funerary objects are present.

14ML16

Human remains representing, at minimum, 33 individuals were removed from Mitchell County, KS. In 1952, the SI-RBS recommended that a salvage excavation be conducted at the late prehistoric village site 14ML16 prior to its being inundated by Glen Elder Dam and Waconda Lake. In 1964 and 1965, the UNL excavated site 14ML16 under a cooperative agreement with the NPS. UNL excavated flexed and commingled burials from several pit features within earthen lodge floors. The archeological materials from the site are associated with the Central Plains Tradition (A.D. 1000-1500). KHS assigned case number UBS 1995-9 to the human remains. In 1992, Reclamation transferred the human remains and associated funerary objects to WSU-BAL for inventory and secure storage. The fragmentary human remains collected from 14ML16 belong to a fetus, an infant, a child, an adolescent, a young adult, and mature adults of both sexes. The nine associated funerary objects are one lot consisting of unworked faunal bones, one lot consisting of worked faunal bones, one lot consisting of chipped stone debris, one lot consisting of chipped stone tools, one lot consisting of pottery sherds, one lot consisting of shell beads, one lot consisting of miscellaneous shells, one marine shell gorget, and one lot consisting of charcoal.

14NT11

Human remains representing, at minimum, one individual were removed from Norton County, KS. In 1962, the UNL surveyed and excavated site 14NT11 under a cooperative agreement with the NPS, prior to the site being inundated by Norton Dam and Keith Sebelius Lake. The site's Plains Woodland period (A.D. 1-1000) component included an undisturbed midden and subterranean pit features containing charred corn and bison faunal remains. During a NAGPRA inventory in 1998, UNL identified the human remains, and in 1999, Reclamation transferred the human remains to WSU-BAL for inventory and secure storage. The human remains collected from 14NT11 belong to a child between 7.5 and 12.5 years of age and of unknown sex. No associated funerary objects are present.

14PH10

Human remains representing, at minimum, three individuals were removed from Phillips County, KS. In 1952, the SI-RBS recorded site 14PH10, aka the West Island Site, but did not recommend an excavation. In 1963, a U.S. Fish and Wildlife Service (FWS) employee discovered human remains and artifacts eroding from site because of exposure during low lake levels at Kirwin Reservoir. That same year, the KHS State Archeologist, working under a cooperative agreement with the NPS, conducted an initial excavation, during which human remains were collected from the surface of the island's eroding shelf. In 1965, archeologists from the University of Kansas, Lawrence (KU), working under a cooperative agreement with the NPS, excavated the site and collected additional human remains. The archeological materials from the site date to the Keith phase of the Plains Woodland period (A.D. 600-800). The human remains collected in 1963, which are securely stored at KHS (case number UBS 1990-25), belong to one adult male between 34 and 40 years of age, and one adult female of unknown age. The human remains collected in 1965, which are securely stored at KU (accession number 698.1996), belong to one adult, probably female based on the presence of a wide sciatic notch of the innominate. No associated funerary objects are present.

14PH305

Human remains representing, at minimum, one individual were removed from Phillips County, KS. In 1978, KHS, working under a contract with the FWS, surveyed and tested site 14PH305 during an archeological survey of the Kirwin National Wildlife Refuge. The surveyors collected artifacts and bone from the surface of the site and excavated at least one soil core probe. The archeological materials from the site date to the Plains Woodland period (A.D. 1-1000). In 2000, Dr. Michael Finnegan at Forensic Anthropological Consultants in Manhattan, KS, inventoried the human remains, but could not determine the age, sex, or ancestry of the individual. In 2023, Reclamation conducted a repository facility review of KHS and became aware of the human remains from 14PH305. The human remains are securely stored at KHS (case number UBS-2000.15). No associated funerary objects are present.

25FT—

Human remains representing, at minimum, one individual were removed from Frontier County, NE. Sometime prior to 1982, a private individual collected a human skull from Harry Strunk Lake and subsequently donated it to the University of Nebraska State Museum (UNSM). The reported discovery location is near two archeological sites—25FT18, a Plains Woodland period site (A.D. 1-1000), and 25FT20, a Central Plains Tradition site (A.D. 1000-1500). In 1995, UNSM transferred the donated remains to Reclamation. Prior to Reclamation's possession, the skull had been reconstructed and coated in a shellac-like substance. In 2017, Dr. E. Melanie Ryan, Reclamation's California-Great Basin Region, Regional NAGPRA Program Manager, determined that the human remains belonged to an individual of Native American ancestry, based on non-metric cranial traits. In 2019, Reclamation transferred the human remains to WSU-BAL for secure storage. The human remains belong to an adult male, 18 to 42 years of age. No associated funerary objects are present.

Cultural Affiliation

The human remains and associated funerary objects in this notice are connected to one or more identifiable earlier groups, tribes, peoples, or cultures. There is a relationship of shared group identity between the identifiable earlier groups, tribes, peoples, or cultures and one or more Indian Tribes or Native Hawaiian organizations. The following types of information were used to reasonably trace the relationship: anthropological, archeological, geographical, linguistic, oral traditional, other relevant information, and expert opinion.

Determinations

Pursuant to NAGPRA and its implementing regulations, and after consultation with the appropriate Indian Tribes and Native Hawaiian organizations, the Reclamation Nebraska-Kansas Area Office has determined that:

• The human remains described in this notice represent the physical remains of 56 individuals of Native American ancestry.

• The 13 objects described in this notice are reasonably believed to have been placed with or near individual human remains at the time of death or later as part of the death rite or ceremony.

• There is a relationship of shared group identity that can be reasonably traced between the human remains and associated funerary objects described in this notice and the Pawnee Nation of Oklahoma; Three Affiliated Tribes of the Fort Berthold Reservation, North Dakota; and the Wichita and Affiliated Tribes (Wichita, Keechi, Waco, & Tawakonie), Oklahoma.

Requests for Repatriation

Written requests for repatriation of the human remains and associated funerary objects in this notice must be sent to the Responsible Official identified in ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after January 12, 2024. If competing requests for repatriation are received, the Reclamation Nebraska-Kansas Area Office must determine the most appropriate requestor prior to repatriation. Requests for joint repatriation of the human remains and associated funerary objects are considered a single request and not competing requests. The Reclamation Nebraska-Kansas Area Office is responsible for sending a copy of this notice to the Indian Tribes identified in this notice.

Authority: Native American Graves Protection and Repatriation Act, 25 U.S.C. 3003, and the implementing regulations, 43 CFR 10.9, 10.10, and 10.14.

Dated: December 6, 2023.
Melanie O'Brien,
Manager, National NAGPRA Program.

[FR Doc. 2023-27370 Filed 12-12-23; 8:45 am]

BILLING CODE 4312-52-P